DEPARTMENT OF THE INTERIOR

Bureau of Land Management

[LLES002000.L1430000.ES0000; FLES 057504-01]

Notice of Realty Action for Lease and Conveyance of Public Land in Volusia County, Florida

AGENCY: Bureau of Land Management, Interior.

ACTION: Notice.

SUMMARY: The Bureau of Land Management (BLM) has examined and found suitable for lease and conveyance to the County of Volusia, Coastal Division, under the provisions of the Recreation and Public Purposes (R&PP) Act and the Taylor Grazing Act, approximately 75 acres of public land on Ponce de Leon Inlet, New Smyrna Beach, Volusia County, Florida.

DATES: Interested parties may submit written comments regarding this proposed classification for lease/conveyance of public land until September 6, 2012.

ADDRESSES: Please submit your written comments to the Field Manager, Bureau of Land Management—Eastern States (BLM-ES), Southeastern States Field Office, 411 Briarwood Drive, Suite 404, Jackson, Mississippi 39206. Comments received in electronic form such as email or facsimile will not be considered.

FOR FURTHER INFORMATION CONTACT: Vicky Craft, BLM-ES Southeastern States Field Office, at 601-977-5435, or at the address above. Persons who use a telecommunications device for the deaf (TDD) may call the Federal Information Relay Service (FIRS) at 1-800-877-8339 to contact the above individual. The FIRS is available 24 hours a day, 7 days a week, to leave a message or question for the above individual. You will receive a reply during normal business hours.

SUPPLEMENTARY INFORMATION: The Secretary of the Interior is authorized to lease or convey certain public lands to State and local governmental agencies and to nonprofit corporations and associations for recreation and public purposes under the R&PP Act of June 14, 1926 (43 U.S.C. 869). Applicable authorities include: Policies pertaining to the BLM's implementation of the R&PP Act (43 CFR 2740.0-6); lands subject to disposition (43 CFR 2741.1); and the guidelines for lease and conveyance (43 CFR 2741.5) under the Act. Additionally, the Taylor Grazing Act of 1934 (43 U.S.C 315f), as amended is the authority for classification of lands. Executive Order No. 6964 withdrew public lands in 12 states, including Florida. In accordance with the above-cited authorities, the following described public land in Volusia County, Florida, has been examined and found suitable for classification for lease and/or conveyance:

Tallahassee Meridian

T. 16 S., R. 34 E.,

Sec. 32, lot 1;

Sec. 33, lot 1.

Except that portion used for the United States Coast Guard (USCG) Station Ponce de Leon Inlet, and that portion used by National Aeronautics and Space Administration (NASA) pursuant to USCG license. More particularly described as: All that land in Sections 32 and 33, T. 16 S., R. 34 E. bounded on the South by township line 16 South, on the east, north and west by the mean high water lines of the Atlantic Ocean, the Inlet, and the Hillsboro River Respectively. Beginning at a point where the township line between Section 32, Township 16 South, Range 34 East, and Section 5, Township 17 South, Range 34 East, intersects the East shoreline of Hillsboro River or Indian River North; thence due East on said township line 700 ft. to a stake; thence South 45 degrees East 625 feet to a stake; thence due West parallel with said township line 700 ft. to the shoreline of said Hillsboro River or Indian River North; thence Northwesterly along shoreline of Hillsborough River or Indian River North to Point of Beginning. The area described contains approximately 75 acres in Volusia County.

The land is located on the north end of New Smyrna Beach and south of the inlet along the Atlantic Ocean shoreline. The land is currently withdrawn on behalf of the USCG for Coast Guard purposes by Executive Order No. 4084, dated October 10, 1924, and previously reserved for lighthouse purposes by Executive Order dated July 25, 1842. Written consent obtained from the USCG Commander allows these lands to be available for lease and/or conveyance under the R&PP Act. The proposed site for lease and/or conveyance would provide the necessary land to maintain and expand operation of the Smyrna Dunes Park. The park is currently used by Volusia and surrounding county residents for recreation compatible with the preservation of its resources. Such recreational use includes nature study, bird watching, hiking and fishing. On-site facilities include parking, restrooms, boardwalks, picnic pavilion, and an office.

Lease of the land to the County is consistent with the BLM Florida Resource Management Plan, dated June 21, 1995, and would be in the public interest. Additional detailed information pertaining to this application, including a plan of development, a map depicting the public land, and the management plan are available for review at the BLM-ES Southeastern States Field Office at the address above.

The County has not applied for more than the 6,400-acre limit for recreation uses in one year, and has submitted a statement describing the proposed use of the land in compliance with 43 CFR 2741.4, which stipulates lease application procedures.

If issued to the County, the lease or patent would be subject to the following terms, conditions and reservations to the United States:

1. Provisions of the R&PP Act of 1926, as amended, and all applicable regulations of the Secretary of the Interior, including, but not limited to, those patent provisions as noted in 43 CFR 2741.9;

2. Valid existing rights;

3. A reservation of all minerals by the United States, together with the right to prospect, mine and remove the minerals;

4. Terms and conditions identified through the site-specific environmental analysis;

5. Any other rights or reservations that the authorized officer deems appropriate to ensure public access and proper management of Federal land and interest therein; and

6. An appropriate indemnification clause protecting the United States from claims arising out of the lessee/patentee's use, occupancy, or operations on the leased/patented lands.

The land described above remains segregated from all other forms of disposal or appropriation under the public land laws, including the United States mining laws, except for leasing under the mineral leasing laws and conveyance under the R&PP Act.

Classification Comments: Interested persons may submit comments involving the suitability of the land for a public park. Comments on the classification are restricted to whether (1) The land is physically suited for the proposal; (2) The use will maximize the future use or uses of the land; (3) The use is consistent with local planning and zoning; or (4) The use is consistent with State and Federal programs.

Application Comments: Interested persons may submit comments regarding the specific use proposed in the application and plan of development and the management plan, whether the BLM followed proper administrative procedures in reaching the decision to lease and later convey under the R&PP Act, or any other factor not directly related to the suitability of the land for R&PP use.

Before including your address, phone number, email address, or other personal identifying information in your comment, you should be aware that your entire comment—including your personal identifying information—may be made publicly available at any time. While you can ask in your comment to withhold your personal identifying information from public review, we cannot guarantee that we will be able to do so.

Any adverse comments will be reviewed by the BLM-ES State Director. In the absence of any adverse comments, the classification of the land described in the notice will not become effective until September 21, 2012. The land will not be leased or conveyed until after the classification becomes effective.

Authority: 43 CFR subpart 2741, 43 U.S.C. 869 et seq.

Bruce E. Dawson,
Southeastern States Field Office Manager.

[FR Doc. 2012-17848 Filed 7-20-12; 8:45 am]

BILLING CODE 4310-GJ-P